DEPARTMENT OF TRANSPORTATION

National Highway Traffic Safety Administration

[Docket No. NHTSA-99-6586; Notice 01]

RIN 2127-AH76

Preliminary Theft Data; Motor Vehicle Theft Prevention Standard

AGENCY: National Highway Traffic Safety Administration (NHTSA),Transportation.

ACTION: Publication of preliminary theft data; request for comments.

SUMMARY: This document requests comments on data about passenger motor vehicle thefts that occurred in calendar year (CY) 1998, including theft rates for existing passenger motor vehicle lines manufactured in model year (MY) 1998. The theft data preliminarily indicate that the vehicle theft rate for CY/MY 1998 vehicles (2.53 thefts per thousand vehicles) decreased by 17.05 percent from the theft rate for CY/MY 1997 vehicles (3.05 thefts per thousand vehicles).

Publication of these data fulfills NHTSA's statutory obligation to periodically obtain accurate and timely theft data, and publish the information for review and comment.

DATES: Comments must be submitted on or before April 10, 2000.

ADDRESSES: All comments should refer to the docket number and notice number cited in the heading of this document and be submitted, preferably with two copies to: U.S. Department of Transportation, Dockets, Room PL-401, 400 Seventh Street, SW., Washington, DC 20590. Docket hours are from 10:00 am to 5:00 pm, Monday through Friday.

FOR FURTHER INFORMATION CONTACT: Ms. Rosalind Proctor, Office of Planning and Consumer Programs, NHTSA, 400 Seventh Street, SW, Washington, DC 20590. Ms. Proctor's telephone number is (202) 366-0846. Her fax number is (202) 493-2290.

SUPPLEMENTARY INFORMATION: NHTSA administers a program for reducing motor vehicle theft. The central feature of this program is the Federal Motor Vehicle Theft Prevention Standard, 49 CFR Part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the § 33104(b)(4) mandate, this document reports the preliminary theft data for CY 1998, the most recent calendar year for which data are available.

In calculating the 1998 theft rates, NHTSA followed the same procedures it used in calculating the MY 1997 theft rates. (For 1997 theft data calculations, see 64 FR 41183, July 29, 1999). As in all previous reports, NHTSA's data were based on information provided to the agency by the National Crime Information Center (NCIC) of the Federal Bureau of Investigation. The NCIC is a governmental system that receives vehicle theft information from nearly 23,000 criminal justice agencies and other law enforcement authorities throughout the United States. The NCIC data also include reported thefts of self-insured and uninsured vehicles, not all of which are reported to other data sources.

The 1998 theft rate for each vehicle line was calculated by dividing the number of reported thefts of MY 1998 vehicles of that line stolen during calendar year 1998, by the total number of vehicles in that line manufactured for MY 1998, as reported by manufacturers to the Environmental Protection Agency.

The preliminary 1998 theft data show a decrease in the vehicle theft rate when compared to the theft rate experienced in CY/MY 1997. The preliminary theft rate for MY 1998 passenger vehicles stolen in calendar year 1998 decreased to 2.53 thefts per thousand vehicles produced, a decrease of 17.05 percent from the rate of 3.05 thefts per thousand vehicles experienced by MY 1997 vehicles in CY 1997. For MY 1998 vehicles, out of a total of 196 vehicle lines, 41 lines had a theft rate higher than 3.5826 per thousand vehicles, the established median theft rate for MYs 1990/1991. (See 59 FR 12400, March 16, 1994). Of the 41 vehicle lines with a theft rate higher than 3.5826, 35 are passenger car lines, six are multipurpose passenger vehicle lines, and none are light-duty truck lines.

In Table I, NHTSA has tentatively ranked each of the MY 1998 vehicle lines in descending order of theft rate. Public comment is sought on the accuracy of the data, including the data for the production volumes of individual vehicle lines.

Comments must not exceed 15 pages in length (49 CFR Part 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given above, and two copies from which the purportedly confidential information has been deleted should be submitted to Dockets. A request for confidentiality should be accompanied by a cover letter setting forth the information specified in the agency's confidential business information regulation. 49 CFR Part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Authority: 49 U.S.C. 33101, 33102 and 33104; delegation of authority at 49 CFR 1.50.

Preliminary Report of Theft Rates of 1998 Model Year Passenger Motor Vehicles Stolen in Calendar Year 1998
Manufacturer | Make/model (line) | Thefts 1998 | Production (Mfr's) 1998 | 1998 theft rate (per 1,000 vehicles produced)
1 Mitsubishi | Diamante | 87 | 6,584 | 13.2139
2 Lamborghini | DB132/Diablo | 1 | 104 | 9.6154
3 Saab | 9000 | 12 | 1,335 | 8.9888
4 Honda | Acura Integra | 314 | 36,253 | 8.6614
5 Mitsubishi | Mirage | 357 | 41,904 | 8.5195
6 Toyota | Tercel | 92 | 11,207 | 8.2092
7 Chrysler Corp | Dodge Stratus | 750 | 107,276 | 6.9913
8 Mitsubishi | Montero Sport/Nativa ¹ | 318 | 45,772 | 6.9475
9 General Motors | Oldsmobile Achieva | 181 | 26,922 | 6.7231
10 General Motors | GMC Safari Van | 161 | 24,451 | 6.5846
11 General Motors | Buick Skylark | 122 | 18,851 | 6.4718
12 Hyundai | Sonata | 101 | 16,406 | 6.1563
13 Suzuki | X-90 | 3 | 500 | 6.0000
14 Chrysler Corp | Plymouth Breeze | 393 | 66,612 | 5.8998
15 Mitsubishi | Galant | 172 | 29,618 | 5.8073
16 Chrysler Corp | Plymouth Neon | 499 | 87,055 | 5.7320
17 Chrysler Corp | Dodge Neon | 725 | 130,154 | 5.5703
18 Mitsubishi | Eclipse | 307 | 56,294 | 5.4535
19 Nissan | Maxima | 682 | 130,862 | 5.2116
20 Chrysler Corp | Sebring Convertible | 251 | 50,812 | 4.9398
21 Ford Motor Co | Mercury Tracer | 177 | 35,850 | 4.9372
22 Hyundai | Elantra | 169 | 35,792 | 4.7217
23 Suzuki | Swift | 15 | 3,265 | 4.5942
24 General Motors | Pontiac Sunfire | 409 | 90,469 | 4.5209
25 Mitsubishi | Montero | 38 | 8,506 | 4.4674
26 Suzuki | Esteem | 67 | 15,222 | 4.4015
27 Chrysler Corp | Jeep Grand Cherokee | 1,085 | 249,097 | 4.3557
28 BMW | M3 | 50 | 11,537 | 4.3339
29 Toyota | Supra | 3 | 697 | 4.3042
30 Mazda | Millenia | 82 | 19,908 | 4.1189
31 Toyota | Lexus GS | 124 | 30,810 | 4.0247
32 Toyota | 4-Runner | 489 | 121,745 | 4.0166
33 BMW | 7 | 73 | 18,179 | 4.0156
34 Ford Motor Co | Contour | 866 | 217,548 | 3.9807
35 Hyundai | Accent | 123 | 31,692 | 3.8811
36 General Motors | Pontiac Grand AM | 386 | 101,814 | 3.7912
37 Mitsubishi | 3000GT | 18 | 4,753 | 3.7871
38 Nissan | Altima | 602 | 159,224 | 3.7808
39 Chrysler Corp | Eagle Talon | 16 | 4,317 | 3.7063
40 Audi | Cabriolet | 3 | 829 | 3.6188
41 Ford Motor Co | Mustang | 612 | 170,587 | 3.5876
42 Mercedes Benz | 140 (CL-Class & SL-Class) | 34 | 9,593 | 3.5443
43 Suzuki | Sidekick | 65 | 18,396 | 3.533
44 Nissan | Sentra/200SX | 395 | 111,821 | 3.5324
45 Mazda | Protégé | 201 | 57,165 | 3.5161
46 General Motors | Chevrolet Blazer S10/T10 | 759 | 216,854 | 3.5001
47 KIA Motors | Sephia | 156 | 45,860 | 3.4017
48 General Motors | Chevrolet Prizm | 153 | 45,000 | 3.4000
49 General Motors | Pontiac Firebird/Formula | 107 | 32,228 | 3.3201
50 General Motors | Chevrolet Camaro | 159 | 48,562 | 3.2742
51 Ford Motor Co | Mercury Mystique | 195 | 59,826 | 3.2595
52 Isuzu | Rodeo | 223 | 68,558 | 3.2527
53 Chrysler Corp | Cirrus | 121 | 37,295 | 3.2444
54 Porsche | 911 | 8 | 2,474 | 3.2336
55 General Motors | Chevrolet Metro | 104 | 32,499 | 3.2001
56 Chrysler Corp | Dodge Avenger | 85 | 26,634 | 3.1914
57 General Motors | Chevrolet Cavalier | 844 | 270,401 | 3.1213
58 Ford Motor Co | Mercury Sable | 282 | 91,297 | 3.0888
59 Ford Motor Co | Lincoln Town Car | 253 | 82,965 | 3.0495
60 Toyota | Corolla | 690 | 228,197 | 3.0237
61 Mercedes Benz | 129 (SL-Class) | 25 | 8,315 | 3.0066
62 Ford Motor Co | Lincoln Mark VIII | 43 | 14,357 | 2.9951
63 General Motors | Chevrolet Corvette | 86 | 28,732 | 2.9932
64 Chrysler Corp | Jeep Cherokee | 439 | 148,207 | 2.9621
65 Nissan | Infiniti I30 | 92 | 31,060 | 2.9620
66 Ford Motor Co | Escort | 995 | 336,729 | 2.9549
67 General Motors | Cadillac Deville | 305 | 104,209 | 2.9268
68 General Motors | Chevrolet Malibu | 669 | 231,143 | 2.8943
69 General Motors | GMC Jimmy S-15 | 204 | 71,583 | 2.8498
70 Ford Motor Co | Taurus | 943 | 332,243 | 2.8383
71 Toyota | Tacoma Pickup Truck | 484 | 170,992 | 2.8305
72 Honda | Prelude | 45 | 15,973 | 2.8173
73 Jaguar | XJ8 | 32 | 11,374 | 2.8134
74 Mazda | 626 | 246 | 87,448 | 2.8131
75 General Motors | Oldsmobile Bravada | 77 | 27,790 | 2.7708
76 Chrysler Corp | Sebring Coupe | 93 | 35,035 | 2.6545
77 Hyundai | Tiburon | 17 | 6,444 | 2.6381
78 Chrysler Corp | Dodge Intrepid | 182 | 70,283 | 2.5895
79 Nissan | Infiniti QX4 | 44 | 17,109 | 2.5717
80 Honda | Passport | 63 | 25,435 | 2.4769
81 General Motors | Chevrolet Lumina/Monte Carlo | 616 | 255,423 | 2.4117
82 General Motors | Chevrolet Tracker | 50 | 20,999 | 2.3811
83 Nissan | Pathfinder | 186 | 81,428 | 2.2842
84 Honda | Civic | 838 | 368,876 | 2.2718
85 General Motors | Pontiac Bonneville | 146 | 65,539 | 2.2277
86 Volkswagen | Golf/GTI | 40 | 17,971 | 2.2258
87 Mercedes Benz | 208 (CLK-Class) | 11 | 5,103 | 2.1556
88 Chrysler Corp | Jeep WRangler | 185 | 90,341 | 2.0478
89 BMW | 3 | 76 | 38,098 | 1.9949
90 Volkswagen | Jetta | 149 | 74,701 | 1.9946
91 Chrysler Corp | Stratus ² | 1 | 505 | 1.9802
92 BMW | 5 | 70 | 35,631 | 1.9646
93 Ford Motor Co | F-150 Pickup Truck | 805 | 409,940 | 1.9637
94 Jaguar | XJR | 3 | 1,534 | 1.9557
95 Toyota | Camry | 790 | 404,850 | 1.9513
96 Ford Motor Co | Windstar Van | 646 | 333,746 | 1.9356
97 Chrysler Corp | Neon ² | 1 | 518 | 1.9305
98 Kia Motors | Sportage | 51 | 26,455 | 1.9278
99 Volvo | S70/V70 | 167 | 87,069 | 1.9180
100 Chrysler Corp | Plymouth Voyager/Grand | 299 | 156,440 | 1.9113
101 Toyota | Lexus ES | 96 | 50,585 | 1.8978
102 Chrysler Corp | Dodge Caravan/Grand | 538 | 288,662 | 1.8638
103 General Motors | Cadillac Eldorado | 33 | 17,950 | 1.8384
104 General Motors | Oldsmobile Intrigue | 180 | 99,035 | 1.8175
105 Honda | Acura TL | 33 | 18,337 | 1.7996
106 Toyota | Lexus SC | 5 | 2,801 | 1.7851
107 Isuzu | Trooper | 33 | 18,657 | 1.7688
108 Isuzu | Oasis Van | 3 | 1,702 | 1.7626
109 Ford Motor Co | Mercury Grand Marquis | 154 | 87,762 | 1.7547
110 Ford Motor Co | Explorer | 773 | 446,467 | 1.7314
111 General Motors | Cadillac Seville | 47 | 27,650 | 1.6998
112 Chrysler Corp | Dodge Dakota Pickup Truck | 245 | 144,215 | 1.6989
113 Mercedes Benz | 210 (E-Class) | 72 | 42,466 | 1.6955
114 Volvo | C70 | 4 | 2,394 | 1.6708
115 Toyota | T100 Pickup Truck | 18 | 10,783 | 1.6693
116 General Motors | Cadillac Catera | 46 | 27,571 | 1.6684
117 Mazda | MPV | 25 | 15,037 | 1.6626
118 General Motors | Oldsmobile Cutlass | 86 | 52,679 | 1.6325
119 General Motors | Oldsmobile Aurora | 39 | 23,955 | 1.6281
120 Isuzu | Hombre Pickup Truck | 32 | 20,289 | 1.5772
121 General Motors | Buick Century | 198 | 128,899 | 1.5361
122 Ford Motor Co | Ranger Pickup Truck | 451 | 297,551 | 1.5157
123 Ford Motor Co | Mercury Mountaineer | 77 | 51,022 | 1.5092
124 General Motors | Pontiac Grand Prix | 188 | 127,838 | 1.4706
125 Mazda | B Series Pickup Truck | 70 | 48,270 | 1.4502
126 Toyota | RAV4 | 93 | 64,298 | 1.4464
127 General Motors | Buick Regal | 101 | 70,556 | 1.4315
128 Honda | Acura CL | 36 | 25,471 | 1.4134
129 General Motors | Chevrolet S-10 Pickup Truck | 348 | 248,330 | 1.4014
130 Isuzu | Amigo | 13 | 9,374 | 1.3868
131 Jaguar | XK8 | 8 | 5,792 | 1.3812
132 Porsche | Boxster Convertible | 10 | 7,253 | 1.3787
133 Mercedes Benz | 202 (C-Class) | 45 | 34,100 | 1.3196
134 General Motors | GMC Sonoma Pickup Truck | 77 | 59,359 | 1.2972
135 General Motors | Buick Park Avenue | 80 | 62,015 | 1.2900
136 General Motors | Pontiac Trans Sport Van | 70 | 54,839 | 1.2765
137 Nissan | Frontier Pickup Truck | 111 | 89,266 | 1.2435
138 General Motors | Saturn SC | 42 | 34,035 | 1.2340
139 General Motors | Buick Riviera | 13 | 10,601 | 1.2263
140 Volkswagen | Cabrio | 15 | 12,252 | 1.2243
141 Honda | Accord | 490 | 403,085 | 1.2156
142 BMW | Z3 | 20 | 16,482 | 1.2134
143 Toyota | Lexus LS | 27 | 22,840 | 1.1821
144 Subaru | Impreza | 23 | 19,550 | 1.1765
145 Chrysler Corp | Concorde | 52 | 46,543 | 1.1172
146 Mercedes Benz | 163 (ML-Class) | 44 | 39,493 | 1.1141
147 Honda | Acura SLX | 2 | 1,800 | 1.1111
148 Mercedes Benz | 170 (SLK-Class) | 14 | 12,658 | 1.1060
149 General Motors | Oldsmobile 88/Regency | 69 | 64,116 | 1.0762
150 Toyota | Avalon | 80 | 76,189 | 1.0500
151 Subaru | Legacy | 95 | 90,721 | 1.0472
152 General Motors | Chevrolet Venture Van | 93 | 93,027 | 0.9997
153 General Motors | Saturn SL | 146 | 147,604 | 0.9891
154 Honda | Acura RL | 14 | 14,182 | 0.9872
155 Nissan | Quest | 26 | 26,388 | 0.9853
156 Ford Motor Co | Lincoln Continental | 38 | 38,671 | 0.9826
157 Chrysler Corp | Dodge Viper | 1 | 1,067 | 0.9372
158 Volvo | S90/V90 | 12 | 12,825 | 0.9357
159 Volkswagen | Passat | 24 | 25,869 | 0.9278
160 Nissan | 240SX | 2 | 2,178 | 0.9183
161 Nissan | Infiniti Q45 | 7 | 7,795 | 0.8980
162 Toyota | Celica | 3 | 3,343 | 0.8974
163 Audi | A4 | 21 | 24,225 | 0.8669
164 Chrysler Corp | Town and Country MPV | 52 | 62,976 | 0.8257
165 General Motors | Buick Lesabre | 111 | 143,354 | 0.7743
166 Honda | CR-V | 74 | 96,828 | 0.7642
167 Jaguar | Vanden Plas | 4 | 5,284 | 0.7570
168 Ford Motor Co | Mercury Villager MPV | 28 | 37,471 | 0.7472
169 Toyota | Sienna Van | 48 | 73,777 | 0.6506
170 Subaru | Forester | 28 | 43,490 | 0.6438
171 Audi | A6 | 10 | 16,938 | 0.5904
172 Volkswagen | New Beetle | 22 | 38,999 | 0.5641
173 Honda | Odyssey Van | 8 | 14,633 | 0.5467
174 Ford Motor Co | Crown Victoria | 43 | 85,305 | 0.5041
175 General Motors | Oldsmobile Silhouette Van | 17 | 35,827 | 0.4745
176 General Motors | Saturn SW | 8 | 18,322 | 0.4366
177 Saab | 900 | 5 | 12,003 | 0.4166
178 General Motors | Chevrolet Astro Van | 34 | 83,317 | 0.4081
179 Aston Martin | DB7 | 0 | 213 | 0.0000
180 Audi | A8 | 0 | 1,978 | 0.0000
181 Chrysler Corp | Intrepid ² | 0 | 171 | 0.0000
182 Fiat | Ferrari | 456 | 25 | 0.0000
183 Fiat | Ferrari 550 | 0 | 149 | 0.0000
184 Fiat | Ferrari F355 | 0 | 511 | 0.0000
185 General Motors | Buick Funeral Coach | 0 | 1,061 | 0.0000
186 General Motors | Cadillac Limousine | 0 | 1,134 | 0.0000
187 Honda | Acura NSX | 0 | 254 | 0.0000
188 Lotus | Esprit | 0 | 54 | 0.0000
189 Rolls-Royce | Bentley Azure | 0 | 99 | 0.0000
190 Rolls-Royce | Bentley Brooklands | 0 | 39 | 0.0000
191 Rolls-Royce | Bentley Continental R | 0 | 24 | 0.0000
192 Rolls-Royce | Bentley Continental T | 0 | 20 | 0.0000
193 Rolls-Royce | Bentley Turbo R/RT | 0 | 25 | 0.0000
194 Rolls-Royce | Silver Spur Park Ward | 0 | 12 | 0.0000
195 Rolls-Royce | Silver Spur | 0 | 30 | 0.0000
196 Vector Auto | Avtech SC/M12 | 0 | 5 | 0.0000
¹ Nativa is the name applied to Montero Sport vehicles that are manufactured for sale only in Puerto Rico.
² These vehicles were manufactured for sale only in U.S. territories under the Chrysler name plate.

Issued on: February 2, 2000.
Stephen R. Kratzke,
Acting Associate Administrator for Safety Performance Standards.

[FR Doc. 00-2723 Filed 2-7-00; 8:45 am]

BILLING CODE 4910-59-P